DEPARTMENT OF ENERGY

Federal Energy Regulatory Commission

[Project No. 2544-052]

Hydro Technology Systems, Inc.; Meyers Falls; Notice of Waiver Period for Water Quality Certification Application

On May 1, 2023, Hydro Technology Systems, Inc submitted to the Federal Energy Regulatory Commission (Commission) evidence of the date on which the certifying agency received the certification request for a Clean Water Act section 401(a)(1) water quality certification filed with the Washington State Department of Ecology, in conjunction with the above captioned project. Pursuant to 40 CFR 121.6 and section 4.34(b)(5) of the Commission's regulations,¹ we hereby notify the Washington State Department of Ecology of the following:

¹ 18 CFR 4.34(b)(5).

Date of Receipt of the Certification Request: May 1, 2023.

Reasonable Period of Time to Act on the Certification Request: One year (May 1, 2024).

If the Washington State Department of Ecology fails or refuses to act on the water quality certification request on or before the above date, then the agency certifying authority is deemed waived pursuant to section 401(a)(1) of the Clean Water Act, 33 U.S.C. 1341(a)(1).

Dated: May 8, 2023.
Kimberly D. Bose,
Secretary.

[FR Doc. 2023-10174 Filed 5-11-23; 8:45 am]

BILLING CODE 6717-01-P